DEPARTMENT OF COMMERCE

Foreign-Trade Zones Board

[Order No. 2160]

Production Authority Not Approved; Foreign-Trade Zone 38; Teijin Carbon Fibers, Inc.; (Carbon Fiber); Greenwood, South Carolina

Pursuant to its authority under the Foreign-Trade Zones Act of June 18, 1934, as amended (19 U.S.C. 81a-81u), the Foreign-Trade Zones Board (the Board) adopts the following Order:

Whereas, the Foreign-Trade Zones (FTZ) Act provides for “. . . the establishment . . . of foreign-trade zones in ports of entry of the United States, to expedite and encourage foreign commerce, and for other purposes,” and authorizes the FTZ Board to grant to qualified corporations the privilege of establishing foreign-trade zones in or adjacent to U.S. Customs and Border Protection ports of entry;

Whereas, the South Carolina State Ports Authority, grantee of FTZ 38, has requested production authority on behalf of Teijin Carbon Fibers, Inc., within FTZ 38 in Greenwood, South Carolina (B-52-2020, docketed August 6, 2020);

Whereas, notice inviting public comment has been given in the Federal Register (85 FR 49359, August 13, 2020; 85 FR 68557, October 29, 2020; 85 FR 81875, December 17, 2020; 86 FR 7695, February 1, 2021; 86 FR 10040, February 18, 2021; 86 FR 23672, May 4, 2021; 86 FR 33218, June 24, 2021; 86 FR 38010, July 19, 2021; 86 FR 48982, September 1, 2021; 88 FR 5853, January 30, 2023; 88 FR 12912, March 1, 2023) and the application, as amended, has been processed pursuant to the FTZ Act and the Board's regulations; and,

Whereas, the Board adopts the findings and recommendations of the examiner's report, and finds that the requirements of the FTZ Act and the Board's regulations have not been satisfied;

Now, therefore, the Board hereby does not approve the application, as amended, requesting to remove the restriction requiring that all foreign status 24,000 tow PAN fiber admitted for production activity be re-exported (entry for U.S. consumption was not authorized) within FTZ 38 at the facility of Teijin Carbon Fibers, Inc., located in Greenwood, South Carolina, as described in the application and Federal Register notice.

Dated: April 12, 2024.
Dawn Shackleford,
Executive Director of Trade Agreements Policy & Negotiations, Alternate Chairman, Foreign-Trade Zones Board.

[FR Doc. 2024-08189 Filed 4-16-24; 8:45 am]

BILLING CODE 3510-DS-P